DEPARTMENT OF HEALTH AND HUMAN SERVICES

Administration for Children and Families

Proposed Information Collection Activity; Monitoring and Compliance for Office of Refugee Resettlement Care Provider Facilities (New Collection)

AGENCY: Office of Refugee Resettlement, Administration for Children and Families, Department of Health and Human Services.

ACTION: Request for public comment.

SUMMARY: The Office of Refugee Resettlement (ORR), Administration for Children and Families (ACF), U.S. Department of Health and Human Services (HHS), is inviting public comments on the proposed collection. The request consists of several forms that allow the Unaccompanied Alien Children (UAC) Program to monitor its care provider facilities for compliance with federal and state laws and regulations, licensing and accreditation standards, ORR policies and procedures, and child welfare standards.

DATES: Comments due within 60 days of publication. In compliance with the requirements of Section 3506(c)(2)(A) of the Paperwork Reduction Act of 1995, ACF is soliciting public comment on the specific aspects of the information collection described in this notice.

ADDRESSES: Copies of the proposed collection of information can be obtained and comments may be forwarded by emailing infocollection@acf.hhs.gov. Alternatively, copies can also be obtained by writing to the Administration for Children and Families, Office of Planning, Research and Evaluation (OPRE), 330 C Street SW, Washington, DC 20201, Attn: ACF Reports Clearance Officer. All requests, emailed or written, should be identified by the title of the information collection.

SUPPLEMENTARY INFORMATION:

Description

The components of this information request include:

1. Corrective Action Report (Form M-1): This instrument is used by ORR Monitoring Team staff (includes federal and contractor staff), ORR Federal Field Specialists, and ORR Project Officers to document care provider non-compliance with minimum standards for the care and timely release of UAC; federal and state laws and regulations; licensing standards; ORR policies and procedures; and child welfare standards. Care providers respond to each corrective action cited by ORR staff by entering a detail corrective action plan into the instrument and attaching any relevant supporting documents. Then, ORR staff document when each corrective action plan is completed to ORR's satisfaction and enter a final determination.

2. FFS Compliance and Safety Site Visit Report (Form M-3A): This instrument is used by ORR Federal Field Specialists to document site visit observations and interview responses.

3. Out-of-Network Site Visit Report (Form M-3B): This instrument is used by ORR Federal Field Specialists to document site visit observations and interview responses for out-of-network providers.

Checklists for a Child-Friendly Environment

These instruments are used by care providers on a voluntary basis to help ensure compliance with ORR policies and procedures related to maintaining a safe, child-friendly environment. ORR may also ask care providers to complete the checklist prior to a site visit.

4. Checklist for a Child-Friendly Environment—Care Provider Facility (Form M-4A)

5. Checklist for a Child-Friendly Environment—Individual Foster Home (Form M-4B)

Incident Reviews

These instruments are used by ORR care provider staff to provide information to ORR on allegations of sexual abuse or sexual harassment that occurred in ORR care that were investigated by local child protective services, state licensing, local law enforcement, the HHS Office of the Inspector General, and/or the Federal Bureau of Investigation. Care providers submit the instrument to ORR's Prevention of Sexual Abuse Team for review. Incident reviews help ensure that care providers have appropriate protective measures in place to prevent a similar incident from occurring again.

6. UAC Incident Review (Form M-5A): This instrument is completed for allegations of sexual abuse or sexual harassment that occurred in ORR care between two children.

7. Adult Incident Review (Form M-5B): This instrument is completed for allegations of sexual abuse or sexual harassment that occurred in ORR care between a child and an adult.

Monitoring Notes

These instruments are used by ORR Monitoring Team staff (includes federal and contractor staff) to compile comprehensive notes and information related to biennial monitoring visits. There are separate instruments tailored specifically for monitoring of long term foster care (LTFC) programs and/or remote monitoring visits.

8. Monitoring Notes (Form M-6A)

9. Remote Monitoring Notes (Form M-6B)

10. Long Term Foster Care Monitoring Notes (Form M-6C)

11. Long Term Foster Care Remote Monitoring Notes (Form M-6D)

Site Visit Guides

These instruments are completed by care provider staff as part of the pre-monitoring process for biennial site visits and provide ORR Monitoring Team staff with information and supporting documents related to the overall functioning and oversight of the care provider program. There are separate instruments tailored specifically for monitoring of LTFC programs, home study and post-release (HS/PRS) service providers, and/or voluntary agencies (primary grantees for LTFC and transitional foster care sub-grantees).

12. Site Visit Guide (Form M-7A)

13. Remote Monitoring Site Visit Guide (Form M-7B)

14. Long Term Foster Care Site Visit Guide (Form M-7C)

15. Long Term Foster Care Remote Site Visit Guide (Form M-7D)

16. Home Study and Post-Release Services Site Visit Guide (Form M-7E)

17. Voluntary Agency Site Visit Guide (Form M-7F)

Case File Checklists

These instruments are used by ORR Monitoring Team staff (includes federal and contractor staff) during biennial site visits to document care provider compliance with ORR policies and procedures related to case file maintenance. There are separate instruments tailored specifically for monitoring of LTFC programs, and HS/PRS providers, plus an addendum for secure and staff secure programs.

18. UAC Case File Checklist (Form M-8A)

19. Long Term Foster Care Case File Checklist (Form M-8B)

20. Home Study and Post-Release Services Case File Checklist (Form M-8C)

21. Secure and Staff Secure Addendum to Case File Checklist (Form M-8D)

On Site Monitoring Checklists

These instruments are used by ORR Monitoring Team staff (includes federal and contractor staff) to document their findings during the walkthrough portion of biennial site visits. There are separate instruments tailored specifically for monitoring of foster homes and PRS home observations.

22. On Site Monitoring Checklist (Form M-9A)

23. Foster Home On Site Monitoring Checklist (Form M-9B)

24. Post-Release Services Home Observation (Form M-9C)

Personnel File Checklists

These instruments are completed by care provider staff and ORR Monitoring Team staff (includes federal and contractor staff) during biennial site visits to ensure that programs are meeting ORR policies and procedures related to the maintenance of personnel files. There are separate instruments tailored specifically for HS/PRS provider files and LTFC parent files.

25. Personnel File Checklist (Form M-10A)

26. Supplement to Personnel File Checklist (Form M-10B)

27. Home Study and Post-Release Services Personnel File Checklist (Form M-10C)

28. Long Term Foster Care Foster Parent Checklist (Form M-10D)

Program Staff Questionnaires

These instruments are used by ORR Monitoring Team staff (includes federal and contractor staff) during biennial site visits to interview and document responses from various care provider program staff.

29. Program Director Questionnaire (Form M-11A)

30. Long Term Foster Care Program Director Questionnaire (Form M-11B)

31. Clinician Questionnaire (Form M-11C)

32. Long Term Foster Care Clinician Questionnaire (Form M-11D)

33. Case Manager Questionnaire (Form M-11E)

34. Long Term Foster Care Case Manager Questionnaire (Form M-11F)

35. Education Staff Questionnaire (Form M-11G)

36. Long Term Foster Care Education Questionnaire (Form M-11H)

37. Medical Coordinator Questionnaire (Form M-11I)

38. Youth Care Worker Questionnaire (Form M-11J)

39. Prevention of Sexual Abuse Compliance Manager Staff Questionnaire (Form M-11K)

40. Secure Detention Officer Questionnaire (Form M-11L)

41. Long Term Foster Care Home Finder Questionnaire (Form M-11M)

42. Long Term Foster Care Independent Living Life Skills Staff Questionnaire (Form M-11N)

43. Long Term Foster Care Foster Parent Questionnaire (Form M-11O)

Child Questionnaires

These instruments are used by ORR Monitoring Team staff (includes federal and contractor staff) during biennial site visits to interview and document responses from UAC.

44. UAC Questionnaire—Ages 6-12 Years Old (Form M-12A)

45. UAC Questionnaire—Ages 13 and Older (Form M-12B)

46. Long Term Foster Care Client Questionnaire (Form M-12C)

47. Secure Client Questionnaire (Form M-12D)

Service Provider Questionnaires

These instruments are used by ORR Monitoring Team staff (includes federal and contractor staff) during biennial site visits to interview and document responses from various service providers.

48. Home Study and Post-Release Services Director Questionnaire (Form M-11A)

49. Home Study and Post-Release Services Caseworker Questionnaire (Form M-13B)

50. Legal Service Provider Questionnaire (Form M-13C)

51. Long Term Foster Care Legal Service Provider Questionnaire (Form M-13D)

52. Case Coordinator Questionnaire (Form M-13E)

Monitoring Visit Planning

These instruments are used by ORR Monitoring Team staff (includes federal and contractor staff) to plan and track biennial site visits for each fiscal year. These forms will be housed in ORR's new database, UAC Path.

53. Monitoring Visit (Form M-14)

54. Monitoring Schedule (Form M-15)

Respondents: ORR grantee and contractor staff, foster parents, and UAC.

Annual Burden Estimates

Estimated Burden Hours and Opportunity Costs for Respondents
Information collection title | Annual number of respondents | Annual number of responses per respondent | Average burden hours per response | Annual total burden hours
Corrective Action Report (Form M-1) | 216 | 0.5 | 5.00 | 540.00
FFS Compliance and Safety Site Visit Report (Form M-3A) | 216 | 12.0 | 1.00 | 2,592.00
Out-of-Network Site Visit Report (Form M-3B) | 24 | 5.0 | 1.00 | 120.00
Checklist for a Child-Friendly Environment (Form M-4) | 216 | 12.0 | 0.25 | 648.00
Incident Reviews (Forms M-5A to M-5B) | 216 | 0.3 | 1.50 | 97.20
Site Visit and Remote Monitoring Site Visit Guides (Forms M-7A to M-7B) | 93 | 1.0 | 12.00 | 1,116.00
LTFC Site Visit and LTFC Remote Monitoring Site Visit Guides (Forms M-7C to M-7D) | 15 | 1.0 | 6.00 | 90.00
HS/PRS Site Visit Guide (Form M-7E) | 30 | 1.0 | 6.00 | 180.00
Voluntary Agency Site Visit Guide (Form M-7F) | 5 | 1.0 | 8.00 | 40.00
UAC Case File Checklist (Form M-8A) | 93 | 5.0 | 1.00 | 465.00
Long Term Foster Care File Checklist (Form M-8B) | 15 | 5.0 | 1.00 | 75.00
Home Study and Post-Release Services Case File Checklist (Form M-8C) | 30 | 5.0 | 1.00 | 150.00
Secure and Staff Secure Addendum to Case File Checklist (Form M-8D) | 4 | 5.0 | 1.00 | 20.00
Program Staff Questionnaires (Form M-11A-K) | 756 | 1.0 | 1.00 | 756.00
Secure Detention Officer Questionnaire (Form M-11L) | 1 | 1.0 | 1.00 | 1.00
Long Term Foster Care Home Finder Questionnaire (Form M-11M) | 15 | 1.0 | 1.00 | 15.00
Long Term Foster Care Independent Living Life Skills Staff Questionnaire (Form M-11N) | 15 | 1.0 | 1.00 | 15.00
Long Term Foster Care Foster Parent Questionnaire (form M-11O) | 30 | 1.0 | 0.75 | 22.50
UAC Questionnaires (Forms M-12A-B) | 460 | 1.0 | 0.50 | 230.00
Long Term Foster Care Client Questionnaire (M-12C) | 75 | 1.0 | 0.50 | 37.50
Secure Client Questionnaire (Form M-12D) | 5 | 1.0 | 0.50 | 2.50
Home Study and Post-Release Services Director Questionnaire (Form M-13A) | 30 | 1.0 | 1.00 | 30.00
Home Study and Post-Release Services Caseworker Questionnaire (Form M-13B) | 90 | 1.0 | 1.00 | 90.00
Legal Service Provider Questionnaire (Form M-13C) | 93 | 1.0 | 1.00 | 93.00
Long Term Foster Care Legal Service Provider Questionnaire (Form M-13D) | 15 | 1.0 | 0.75 | 11.25
Case Coordinator Questionnaire (Form M-13E) | 108 | 1.0 | 1.00 | 108.00
Estimated Annual Burden Hours Total: |  |  |  | 7,544.95

Estimated Burden Hours and Opportunity Costs for Contractor Monitors
Information collection title | Annual number of respondents | Annual number of responses per respondent | Average burden hours per response | Annual total burden hours
Corrective Action Report (Form M-1) | 4 | 25.0 | 22.00 | 2,200.00
Monitoring and Remote Monitoring Notes (Forms M-6A to M-6B) | 4 | 7.0 | 12.00 | 336.00
LTFC Monitoring and LTFC Remote Monitoring Notes (Forms M-6C to M-6D) | 4 | 1.0 | 12.00 | 48.00
Site Visit and Remote Monitoring Site Visit Guides (Forms M-7A to M-7B) | 4 | 7.0 | 28.00 | 784.00
LTFC Site Visit and LTFC Remote Monitoring Site Visit Guides (Forms M-7C to M-7D) | 4 | 1.0 | 21.00 | 84.00
HS/PRS Site Visit Guide (Form M-7E) | 4 | 2.0 | 21.00 | 168.00
Voluntary Agency Site Visit Guide (Form M-7F) | 4 | 0.0 | 28.00 | 0.00
UAC Case File Checklist (Form M-8A) | 4 | 33.0 | 6.00 | 792.00
Long Term Foster Care File Checklist (Form M-8B) | 4 | 5.0 | 3.00 | 60.00
Home Study and Post-Release Services Case File Checklist (Form M-8C) | 4 | 11.0 | 1.00 | 44.00
Secure and Staff Secure Addendum to Case File Checklist (Form M-8D) | 4 | 1.0 | 1.00 | 4.00
On Site Monitoring Checklist (Form M-9A) | 4 | 7.0 | 4.00 | 112.00
Foster Home On Site Monitoring Checklist (Form M-9B) | 4 | 2.0 | 0.50 | 4.00
Post-Release Services Home Observation (Form M-9C) | 4 | 4.0 | 0.50 | 8.00
Personnel File Checklist (Form M-10A) | 4 | 31.0 | 1.00 | 124.00
Supplement to Personnel File Checklist (Form M-10B) | 4 | 54.0 | 1.00 | 216.00
Home Study and Post-Release Services Personnel File Checklist (Form M-10C) | 4 | 6.0 | 1.00 | 24.00
Long Term Foster Care Foster Parent Checklist (Form M-10D) | 4 | 2.0 | 0.50 | 4.00
Program Staff Questionnaires (Form M-11A-K) | 4 | 54.0 | 1.00 | 216.00
Secure Detention Officer Questionnaire (Form M-11L) | 4 | 0.1 | 1.00 | 0.40
Long Term Foster Care Home Finder Questionnaire (Form M-11M) | 4 | 1.0 | 1.00 | 4.00
Long Term Foster Care Independent Living Life Skills Staff Questionnaire (Form M-11N) | 4 | 1.0 | 1.00 | 4.00
Long Term Foster Care Foster Parent Questionnaire (form M-11O) | 4 | 2.0 | 0.75 | 6.00
UAC Questionnaires (Forms M-12A-B) | 4 | 33.0 | 0.50 | 66.00
Long Term Foster Care Client Questionnaire (M-12C) | 4 | 5.0 | 0.50 | 10.00
Secure Client Questionnaire (Form M-12D) | 4 | 0.4 | 0.50 | 0.80
Home Study and Post-Release Services Director Questionnaire (Form M-13A) | 4 | 2.0 | 0.50 | 4.00
Home Study and Post-Release Services Caseworker Questionnaire (Form M-13B) | 4 | 6.0 | 1.00 | 24.00
Legal Service Provider Questionnaire (Form M-13C) | 4 | 7.0 | 1.00 | 28.00
Long Term Foster Care Legal Service Provider Questionnaire (Form M-13D) | 4 | 1.0 | 0.75 | 3.00
Case Coordinator Questionnaire (Form M-13E) | 4 | 8.0 | 1.00 | 32.00
Monitoring Visit (Form M-14) | 4 | 8.0 | 0.50 | 16.00
Monitoring Schedule (Form M-15) | 4 | 0.3 | 0.33 | 0.40
Estimated Annual Burden Hours Total: |  |  |  | 5,427

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; Flores v. Reno Settlement Agreement, No. CV85-4544-RJK (C.D. Cal. 1996).

Mary B. Jones,
ACF/OPRE Certifying Officer.

[FR Doc. 2021-01142 Filed 1-19-21; 8:45 am]

BILLING CODE 4184-45-P